DEPARTMENT OF TRANSPORTATION

Federal Aviation Administration

Notice of Availability of a Final Environmental Assessment (Final EA) and a Finding of No Significant Impact (FONSI)/Record of Decision (ROD) for Installation of Category II/III Approaches at O'Hare International Airport at Chicago, IL

AGENCY: Federal Aviation Administration (FAA), DOT.

ACTION: Notice of Availability of a Final Environmental Assessment (EA) for Installation of Category II/III Approaches at O'Hare International Airport at Chicago, Illinois.

SUMMARY: The Federal Aviation Administration (FAA) is issuing this notice to advise the public that the FAA has prepared, and approved on October 1, 2004, a Finding of No Significant Impact (FONSI)/Record of Decision (ROD) based on the Final Environmental Assessment (Final EA) for Installation of Category II/III Approaches at O'Hare International Airport at Chicago, IL. The Federal Aviation Administration (FAA) prepared the Final EA in accordance with the National Environmental Policy Act and the Federal Aviation Administration's regulations and guidelines for environmental documents. The Final EA was reviewed and evaluated by FAA, and was accepted on October 1, 2004 as a Federal document by the FAA's Responsible Federal Official.

FOR FURTHER INFORMATION CONTACT: Ms. Virginia Marcks, Environmental Engineer, ANI-430, Federal Aviation Administration, 2300 East Devon Avenue, Des Plaines, Illinois 60018. Telephone number: (847) 294-7494.

SUPPLEMENTARY INFORMATION: The proposed action includes: The upgrade of Runways 27L and 27R from a category I approach to a Category II/III approach, the installation of an Approach Lighting System with Sequenced Flashing Lights (ALSF-2) system to Runways 27L and 27R, the construction of localizer buildings and associated equipment including removal of the existing buildings, installation of 1,000-gallon underground storage tanks at the localizer buildings, the replacement and re-cabling of threshold light fixtures on Runway 27L and 27R, the replacement or potential relocation of the localizer antennae on Runway 27R, the installation of an Inner Marker and Far Field Monitor on Runways 27L and 27R, the removal of existing Medium Intensity Approach Lighting System with Runway Alignment Indicator Lights (MALSR) systems from Runway 27L and 27R, the removal of the Runways 27L and 27R Middle Marker, shelter, and antenna, the removal of the Outer Marker, shelter and antenna from Runway 27R, the replacement of the glide slope antenna and equipment for Runway 27R, the installation of taxiway centerline lights in the apron north of Gates B-17 through B-22, the installation of Runway Guard Lights (RGLs) at connecting taxiways to Runways 27L and 27R, the expansion of lease areas, by the FAA, from the City of Chicago on airport property, the development of Category II/III instrument approach procedures for Runways 27L and 27R, and the insuance of the National Airspace System (NAS) Change Proposal (NCP) waivers associated with design and installation of the preceding.

The Final EA has been prepared in accordance with the National “Environmental Policy Act (NEPA) of 1969, as amended, FAA Order 1050.IE, Environmental Impacts: Policies and Procedures,'' and FAA Order 5050.4A, Airport Environmental Handbook.'' The proposed development action is consistent with the National Airspace System Plan prepared by the U.S. Department of Transportation, Federal Aviation Administration (FAA).

A Final Environmental Assessment and the finding of No Significant Impact Record of Decision (FONSI/ROD) is available for public viewing during normal business hours at the following locations:

Arlington Heights Memorial Library, 500 N. Dunton Avenue, Arlington Heights, IL 60004.

Bensenville Public Library, 200 S. Church Road, Bensenville, IL 60106.

Chicago Department of Aviation Office, Terminal 2 E/F Concourse, Mezzanine Level, Chicago O'Hare International Airport 60016 (by appointment for security, (773) 686-8060).

Des Plaines Public Library, 1501 Ellinwood Street, Des Plaines, IL 60016.

Eisenhower Public Library, 4652 N. Olcott Avenue, Harwood Heights, IL 60706.

Elk Grove Village Public Library, 1001 Wellington Avenue, Elk Grove Village, IL 60007.

Elmhurst Public Library, 211 Prospect Avenue, Elmhurst, IL 60126.

Franklin Park Public Library, 10311 Grand Avenue, Franklin Park, IL 60131.

Harold Washington Library, 400 South State Street, 5th Floor, Chicago, IL 60605.

Mount Prospect Public Library, 10 South Emerson Street, Mount Prospect, IL 60056.

Norridge Village Hall, Office of the Village Clerk, 4000 N. Olcott Avenue, Norridge, IL 60706.

Northlake Public Library, 231 N. Wolf Road, Northlake, IL 60164.

Oakton Community College Library, Des Plaines, IL 60016.

Park Ridge Public Library, 20 S. Prospect Avenue, Park Ridge, IL 60068.

Rosemont Village Hall, Office of the Village Clerk, 9501 Devon Avenue, Rosemont, IL 60018.

Schiller Park Public Library, 4200 Old River Road, Schiller Park, IL 60176.

Wood Dale Public Library, 520 N. Wood Dale Road, Wood Dale, IL 60191.

Northeast Illinois Planning Commission (NIPC), 222 South Riverside Plaza, Suite 1800, Chicago, IL 60606.

Federal Aviation Administration, Great Lakes Region, ANI-430, 2300 East Devon Avenue, Des Plaines, IL 60018 (by appointment for security, (847) 294-7494).

The Final EA and FONSI/ROD will be available through November 16, 2004.

Issued in Des Plaines, Illinois, on October 7, 2004.
Vincent Bridgeforth,
Manager, Chicago NAS Implementation Center, ANI-400, Great Lakes Region.

[FR Doc. 04-23075 Filed 10-13-04; 8:45 am]

BILLING CODE 4910-13-M